DEPARTMENT OF EDUCATION

[Docket No.: ED-2024-SCC-0019]

Agency Information Collection Activities; Comment Request; Vocational Rehabilitation Program Corrective Action Plan (CAP)

AGENCY: Office of Special Education and Rehabilitative Services (OSERS), Department of Education (ED).

ACTION: Notice.

SUMMARY: In accordance with the Paperwork Reduction Act (PRA) of 1995, the Department is proposing a reinstatement of a previously approved information collection request (ICR).

DATES: Interested persons are invited to submit comments on or before April 5, 2024.

ADDRESSES: To access and review all the documents related to the information collection listed in this notice, please use http://www.regulations.gov by searching the Docket ID number ED-2024-SCC-0019. Comments submitted in response to this notice should be submitted electronically through the Federal eRulemaking Portal at http://www.regulations.gov by selecting the Docket ID number or via postal mail, commercial delivery, or hand delivery. If the regulations.gov site is not available to the public for any reason, the Department will temporarily accept comments at ICDocketMgr@ed.gov. Please include the docket ID number and the title of the information collection request when requesting documents or submitting comments. Please note that comments submitted after the comment period will not be accepted. Written requests for information or comments submitted by postal mail or delivery should be addressed to the Manager of the Strategic Collections and Clearance Governance and Strategy Division, U.S. Department of Education, 400 Maryland Ave. SW, LBJ, Room 6W203, Washington, DC 20202-8240.

FOR FURTHER INFORMATION CONTACT: For specific questions related to collection activities, please contact Ed Vitelli, 202-453-6203.

SUPPLEMENTARY INFORMATION: The Department, in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. The Department is soliciting comments on the proposed information collection request (ICR) that is described below. The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Vocational Rehabilitation Program Corrective Action Plan (CAP).

OMB Control Number: 1820-0694.

Type of Review: A reinstatement of a previously approved ICR.

Respondents/Affected Public: State, Local, and Tribal Governments.

Total Estimated Number of Annual Responses: 60.

Total Estimated Number of Annual Burden Hours: 975.

Abstract: Section 107(a)(1) of the Rehabilitation Act of 1973 (Rehabilitation Act) requires the Commissioner of the Rehabilitation Services Administration (RSA) to conduct annual reviews and periodic on-site monitoring of the vocational rehabilitation (VR) program to determine whether a state agency is complying substantially with the provisions of its State Plan under section 101 of the Rehabilitation Act and with the evaluation standards and performance indicators established under section 106 of the Rehabilitation Act subject to the performance accountability provisions described in section 116(b) of the Workforce Innovation and Opportunity Act (WIOA). To fulfill its monitoring responsibility, RSA reviews a maximum of 15 VR agencies in each Federal fiscal year. When, based on its monitoring, RSA determines that a state agency has not administered and operated the VR program in compliance with its State Plan, the Rehabilitation Act, and implementing regulations at 34 CFR part 361, the agency must develop a corrective action plan (CAP), established by RSA in accordance with the requirement of section 107(b)(2) of the Rehabilitation Act, for RSA approval within 45 days from the issuance of the final monitoring report.

Dated: January 30, 2024.
Juliana Pearson,
PRA Coordinator, Strategic Collections and Clearance, Governance and Strategy Division, Office of Chief Data Officer, Office of Planning, Evaluation and Policy Development.

[FR Doc. 2024-02147 Filed 2-2-24; 8:45 am]

BILLING CODE 4000-01-P